DEPARTMENT OF HOMELAND SECURITY

National Communications System

National Security Telecommunications Advisory Committee

AGENCY: National Communications System (NCS)

ACTION: Supplemental notice of open meeting.

SUMMARY: As previously noticed, (see notice of meeting published October 19, 2004), the President's National Security Telecommunications Advisory Committee (NSTAC) will meet via conference call on Thursday, October 21, 2004, from 3 p.m. to 4 p.m. The conference call will be open to the public.

Due to an administrative oversight, publication of the original notice for the aforementioned meeting, which was expected to occur on October 6, 2004, was unexpectedly delayed. Accordingly, to afford interested members of the public an opportunity to arrange access to the conference bridge, this Supplemental Notice extends the registration period for the call. Interested members of the public who wish to monitor the teleconference should contact Ms. Daniela Christopherson at (703) 607-6217, or by e-mail at Christod@ncs.gov, not later than 1 p.m. on October 21, 2004, to obtain the access information and the meeting materials.

FOR FURTHER INFORMATION CONTACT: Call Ms. Kiesha Gebreyes, Chief, Industry operations Branch at (703) 607-6134, or write the Manager, National Communications System, P.O. Box 4502, Arlington, Virginia 22204-4502.

Sheron Bellizan,
Chief of Staff, National Communications System.

[FR Doc. 04-23503 Filed 10-19-04; 8:45 am]

BILLING CODE 4410-10-M